DEPARTMENT OF ENERGY

Federal Energy Regulatory Commission

Combined Notice of Filings #2

Take notice that the Commission received the following electric rate filings:

Docket Numbers: ER12-1875-001.

Applicants: AltaGas Renewable Energy Colorado LLC.

Description: Informational Filing Regarding MBR Tariff Effective Date to be effective N/A.

Filed Date: 10/10/12.

Accession Number: 20121010-5040.

Comments Due: 5 p.m. ET 10/31/12.

Docket Numbers: ER12-2381-000.

Applicants: MP2 Energy NE LLC.

Description: MP2 Energy NE LLC submits response to September 11, 2012 letter requesting additional information.

Filed Date: 10/10/12.

Accession Number: 20121010-5125.

Comments Due: 5 p.m. ET 10/31/12.

Docket Numbers: ER13-57-000.

Applicants: Dominion Energy New England, LLC.

Description: Cancellation of MBR Tariff and Tariff ID to be effective 10/11/2012.

Filed Date: 10/10/12.

Accession Number: 20121010-5060.

Comments Due: 5 p.m. ET 10/31/12.

Docket Numbers: ER13-58-000.

Applicants: Rail Splitter Wind Farm, LLC.

Description: First Revised MBR to be effective 10/11/2012.

Filed Date: 10/10/12.

Accession Number: 20121010-5065.

Comments Due: 5 p.m. ET 10/31/12.

Docket Numbers: ER13-59-000.

Applicants: Pioneer Prairie Wind Farm I, LLC.

Description: First Revised MBR to be effective 10/11/2012.

Filed Date: 10/10/12.

Accession Number: 20121010-5066.

Comments Due: 5 p.m. ET 10/31/12.

.

Docket Numbers: ER13-60-000.

Applicants: Lost Lakes Wind Farm LLC.

Description: First Revised MBR to be effective 10/11/2012.

Filed Date: 10/10/12.

Accession Number: 20121010-5067.

Comments Due: 5 p.m. ET 10/31/12.

Docket Numbers: ER13-61-000.

Applicants: High Prairie Wind Farm II, LLC.

Description: First Revised MBR to be effective 10/11/2012.

Filed Date: 10/10/12.

Accession Number: 20121010-5068.

Comments Due: 5 p.m. ET 10/31/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 10, 2012.
Nathaniel J. Davis, Sr.,
Deputy Secretary.

[FR Doc. 2012-25532 Filed 10-16-12; 8:45 am]

BILLING CODE 6717-01-P